DEPARTMENT OF LABOR

Office of the Secretary

Submission for OMB Review; Comment Request

February 28, 2001.

The Department of Labor (DOL) has submitted the following public information collection requests (ICRs) to the Office of Management and Budget (OMB) for review and approval in accordance with the Paperwork Reduction Act of 1995 (Pub. L. 104-13, 44 U.S.C. Chapter 35). A copy of this ICR, with applicable supporting documentation, may be obtained by calling the Department of Labor. To obtain documentation contact Darrin King at (202) 693-4129 or E-Mail King-Darrin@dol.gov.

Comments should be sent to Office of Information and Regulatory Affairs, Attn: OMB Desk Officer for ETA, Office of Management and Budget, Room 10235, Washington, DC 20503 ((202) 395-7316), on or before April 9, 2001.

The OMB is particularly interested in comments which:

• evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submission of responses.

Type of Review: Extension of a currently approved collection.

Agency: Employment and Training Administration (ETA).

Title: Attestations by Facilities Temporarily Employing H-1C Nonimmigrant Aliens as Registered Nurses.

OMB Number: 1205-0415.

Affected Public: Business or other for-profit and Not-for-profit institutions.

Frequency: On Occasion.

Number of Respondents: 14.

Number of Annual Responses: 172.

Estimated Time Per Response: Varies from an estimated 15 minutes to provide a notification of registered nurses to 1.25 hours to submit a notice of strike/lockout or layoff (the time required to complete the ETA Form 9081 is estimated at 1 hour).

Total Burden Hours: 68.

Total Annualized Capital/Startup Costs: $0.

Total Annual Costs (operating/maintaining systems or purchasing services): $57.

Description: The ETA Form 9081 and the recordkeeping requirements required by 20 CFR Part 655, Subparts L and M are necessary for employers seeking to hire H-1C nonimmigrant nurses for certain facilities located in areas with severe health professional shortages. These reporting and recordkeeping requirements allow employers and the Department to comply with the requirements of the Nursing Relief for Disadvantaged Areas Act of 1999.

Ira L. Mills,
Departmental Clearance Officer.

[FR Doc. 01-5743 Filed 3-7-01; 8:45 am]

BILLING CODE 4510-30-M